DEPARTMENT OF COMMERCE

International Trade Administration

[C-570-968]

Aluminum Extrusions From the People's Republic of China: Preliminary Results of Countervailing Duty Administrative Review, Rescission of Review, in Part, and Intent To Rescind, in Part; 2016

AGENCY: Enforcement and Compliance, International Trade Administration, Department of Commerce.

SUMMARY: The Department of Commerce (Commerce) preliminarily determines that countervailable subsidies have been provided to producers and exporters of aluminum extrusions from the People's Republic of China (China). The period of review (POR) is January 1, 2016, through December 31, 2016.

DATES: Applicable March 15, 2018.

FOR FURTHER INFORMATION CONTACT: Tyler Weinhold or Tom Bellhouse, AD/CVD Operations, Office VI, Enforcement and Compliance, International Trade Administration, U.S. Department of Commerce, 1401 Constitution Avenue NW, Washington, DC 20230; telephone: (202) 482-1121 or (202) 482-2057, respectively.

SUPPLEMENTARY INFORMATION:

Background

Commerce published the notice of initiation of this administrative review on July 6, 2017.¹ The review was initiated on 219 companies. On October 4, 2017, the Aluminum Extrusions Trade Enforcement Working Group (the petitioner) withdrew its request for review of all but five companies: Liaoning Zhongwang Group Co. Ltd. (Liaoning), Liaoyang Zhongwang Aluminum Profile Co. Ltd. (Liaoyang), Guangdong Xin Wei Aluminum Products Co., Ltd., Xin Wei Aluminum Co. Ltd., and Xin Wei Aluminum Company Limited.² On July 20, 2017, Commerce received timely no-shipment certifications from certain companies for which there remain active requests for review: Guangdong Xin Wei Aluminum Products Co., Ltd., Xin Wei Aluminum Company Limited, and Xin Wei Aluminum Co. Ltd.³ On October 31, 2017, Commerce issued the standard CVD questionnaire to Liaoning and Liaoyang as mandatory respondents.⁴

¹ See Initiation of Antidumping and Countervailing Duty Administrative Reviews, 82 FR 44260 (July 6, 2017) (Initiation Notice).

² See Letter from the petitioner, “Aluminum Extrusions from the People's Republic of China: Request for Administrative Review,” dated May 31, 2017; Letter from Regal Ideas Inc., “Aluminum Extrusions from the People's Republic of China: Request for Administrative Review,” dated May 31, 2017; and Letter, “Aluminum Extrusions from the People's Republic of China: Withdrawal of Request for Administrative Review,” dated October 4, 2017. See also Memorandum, “Decision Memorandum for the Preliminary Results of Countervailing Duty Administrative Review, Rescission of Review, in Part, and Intent to Rescind, in Part; 2016,” dated concurrently with, and hereby adopted by, this notice (Preliminary Decision Memorandum) at “Background” and “Partial Rescission of Review.”

³ See Letter, “Aluminum Extrusions from the People's Republic of China: Certification of No Sales, Shipments, or Entries,” dated July 20, 2017.

⁴ See Department Letter re: “2016 Administrative Review of the Countervailing Duty Order on Aluminum Extrusions from the People's Republic of China: Countervailing Duty Questionnaire,” dated September 6, 2017 (Initial CVD Questionnaire—Liaoning Zhongwang Group Co., Ltd.) and Department Letter re: “2016 Administrative Review of the Countervailing Duty Order on Aluminum Extrusions from the People's Republic of China: Countervailing Duty Questionnaire,” dated September 6, 2017 (Initial CVD Questionnaire—Liaoyang Zhongwang Aluminum Profile Co., Ltd.). Liaoning Zhongwang Group Co., Ltd. and Liaoyang Zhongwang Aluminum Profile Co. Ltd. were the only companies with outstanding review requests which had not submitted timely certifications of no-shipment. Commerce also issued a countervailing duty questionnaire to Xin Wei Aluminum Company Limited, Xin Wei Aluminum Co., Ltd., and Guangdong Xin Wei Aluminum Products Co., Ltd., but later determined that Xin Wei Aluminum Company Limited, Xin Wei Aluminum Co., Ltd., Xin Wei Aluminum Co., and Guangdong Xin Wei Aluminum Products Co., Ltd. had submitted a timely no-shipment certification. See “Preliminary Determination of No Shipments,” below. See also Preliminary Decision Memorandum.

Commerce exercised its discretion to toll deadlines affected by the closure of the Federal Government from January 20 through 22, 2018. If the new deadline falls on a non-business day, in accordance with Commerce's practice, the deadline will become the next business day. On January 24, 2018, and March 1, 2018, Commerce extended the deadline for the preliminary results.⁵ The revised deadline for the preliminary results of this review is now March 9, 2018.⁶

⁵ See Memorandum, “Aluminum Extrusions from the People's Republic of China: Extension of Deadline for Preliminary Results of Countervailing Duty Administrative Review,” dated January 24, 2018, and uploaded to ACCESS on January 25, 2018; see also Memorandum, “Aluminum Extrusions from the People's Republic of China: Second Extension of Deadline for Preliminary Results of Countervailing Duty Administrative Review,” dated March 1, 2018.

⁶ See Memorandum for the Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding have been extended by 3 days.

For a complete description of the events that followed the initiation of this review, see the Preliminary Decision Memorandum.⁷ A list of topics discussed in the Preliminary Decision Memorandum is included as Appendix I to this notice. The Preliminary Decision Memorandum is a public document and is on file electronically via Enforcement and Compliance's Antidumping and Countervailing Duty Centralized Electronic Service System (ACCESS). ACCESS is available to registered users at http://access.trade.gov, and is available to all parties in the Central Records Unit, Room B8024 of the main Department of Commerce building. In addition, a complete version of the Preliminary Decision Memorandum can be accessed directly at http://enforcement.trade.gov/frn/. The signed and electronic versions of the Preliminary Decision Memorandum are identical in content.

⁷ See Preliminary Decision Memorandum.

Scope of the Order

The merchandise covered by the order is aluminum extrusions which are shapes and forms, produced by an extrusion process, made from aluminum alloys having metallic elements corresponding to the alloy series designations published by The Aluminum Association commencing with the numbers 1, 3, and 6 (or proprietary equivalents or other certifying body equivalents).

Imports of the subject merchandise are provided for under the following categories of the Harmonized Tariff Schedule of the United States (HTSUS): 6603.90.8100, 7616.99.51, 8479.89.94, 8481.90.9060, 8481.90.9085, 9031.90.9195, 8424.90.9080, 9405.99.4020, 9031.90.90.95, 7616.10.90.90, 7609.00.00, 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8414.59.60.90, 8415.90.80.45, 8418.99.80.05, 8418.99.80.50, 8418.99.80.60, 8419.90.10.00, 8422.90.06.40, 8473.30.20.00, 8473.30.51.00, 8479.90.85.00, 8486.90.00.00, 8487.90.00.80, 8503.00.95.20, 8508.70.00.00, 8515.90.20.00, 8516.90.50.00, 8516.90.80.50, 8517.70.00.00, 8529.90.73.00, 8529.90.97.60, 8536.90.80.85, 8538.10.00.00, 8543.90.88.80, 8708.29.50.60, 8708.80.65.90, 8803.30.00.60, 9013.90.50.00, 9013.90.90.00, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.41, 9403.90.80.51, 9403.90.80.61, 9506.11.40.80, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99, as well as under other HTSUS chapters. In addition, fin evaporator coils may be classifiable under HTSUS numbers: 8418.99.80.50 and 8418.99.80.60. While HTSUS subheadings are provided for convenience and customs purposes, the written description of the scope of this order is dispositive.⁸

⁸ See Preliminary Decision Memorandum for a complete description of the scope of the order.

Methodology

Commerce is conducting this review in accordance with section 751(a)(1)(A) of the Tariff Act of 1930, as amended (the Act). For purposes of this review Commerce preliminarily finds that all programs previously countervailed in prior segments of this proceeding, remain countervailable—that is, they provide a financial contribution within the meaning of sections 771(5)(B)(i) and (D) of the Act, confer a benefit within the meaning of section 771(5)(B) of the Act, and are specific within the meaning of 771(5A) of the Act.

For a full description of the methodology underlying our preliminary conclusions, including our reliance on adverse facts available pursuant to sections 776(a) and (b) of the Act, see the Preliminary Decision Memorandum. As explained in the Preliminary Decision Memorandum, Commerce relied on adverse facts available because the Government of China and both of the mandatory respondents did not act to the best of their ability in responding to Commerce's requests for information, and consequently, has drawn an adverse inference, where appropriate, in selecting from among the facts otherwise available.⁹ For further information, see “Use of Facts Otherwise Available and Adverse Inferences” in the Preliminary Decision Memorandum.

⁹ See sections 776(a) and (b) of the Act.

Rescission of Review, in Part

For those companies named in the Initiation Notice for which all review requests have been timely withdrawn, we are rescinding this administrative review in accordance with 19 CFR 351.213(d)(1). These 214 companies are listed at Appendix II to this notice.

Intent To Rescind Administrative Review, in Part

As explained above, on July 20, 2017, Commerce received timely no-shipment certifications from Guangdong Xin Wei Aluminum Products Co., Ltd., Xin Wei Aluminum Company Limited, and Xin Wei Aluminum Co. Ltd. Because there is no evidence on the record to indicate that these companies had entries of subject merchandise during the POR,¹⁰ pursuant to 19 CFR 351.213(d)(3), we preliminarily intend to rescind the review with respect to Guangdong Xin Wei Aluminum Products Co., Ltd., Xin Wei Aluminum Company Limited, and Xin Wei Aluminum Co. Ltd.¹¹ A final decision regarding whether to rescind the review of this company will be issued with the final results of review.

¹⁰ See, e.g., Memorandum, “2016 Administrative Review of the Countervailing Duty Order on Aluminum Extrusions from the People's Republic of China: Electronic U.S. Customs and Border Protection Data,” dated July 7, 2017, and accompanying Microsoft Excel spreadsheet.

¹¹ See Preliminary Decision Memorandum.

Preliminary Results

Commerce preliminarily determines that the following estimated countervailable subsidy rates exist: ¹²

¹² Id., at “Use of Adverse Facts Available” and “Ad Valorem Rate for Non-Cooperative Companies Under Review.”

Company | Ad valorem rate (percent)
Liaoning Zhongwang Group Co., Ltd | 198.61
Liaoyang Zhongwang Aluminum Profile Co., Ltd | 198.61

Assessment Rates

In accordance with 19 CFR 351.221(b)(4)(i), we preliminarily assigned subsidy rates in the amounts shown above for the producer/exporters shown above. Upon completion of the administrative review, consistent with section 751(a)(1) of the Act and 19 CFR 351.212(b)(2), Commerce shall determine, and U.S. Customs and Border Protection (CBP) shall assess, countervailing duties on all appropriate entries covered by this review. We intend to issue assessment instructions to CBP 15 days after publication of the final results of this review.

For the 214 companies for which this review is rescinded, Commerce will instruct CBP to assess countervailing duties on all appropriate entries at a rate equal to the cash deposit of estimated countervailing duties required at the time of entry, or withdrawal from warehouse, for consumption, during the period January 1, 2016, through December 31, 2016, in accordance with 19 CFR 351.212(c)(l)(i). Commerce intends to issue appropriate assessment instructions directly to CBP 15 days after publication of this notice.

Cash Deposit Requirements

Pursuant to section 751(a)(2)(C) of the Act, Commerce also intends upon publication of the final results to instruct CBP to collect cash deposits of estimated countervailing duties in the amounts indicated above for each company listed on shipments of subject merchandise entered, or withdrawn from warehouse, for consumption on or after the date of publication of the final results of this administrative review. For all non-reviewed firms, we intend to instruct CBP to collect cash deposits of estimated countervailing duties at the most recent company-specific or all-others rate applicable to the company, as appropriate. These cash deposit requirements, when imposed, shall remain in effect until further notice.

Disclosure

Normally, Commerce discloses to interested parties the calculations performed in connection with the preliminary results of review within five days of its public announcement, or if there is no public announcement, within five days of the date of publication of this notice in accordance with 19 CFR 351.224(b). However, because Commerce preliminarily applied adverse facts available to Liaoning and Liaoyang, pursuant to section 776 of the Act, there are no calculations to disclose.

Public Comment

Interested parties may submit written case briefs no later than 30 days after the date of publication of the preliminary determination. Rebuttal briefs, limited to issues raised in case briefs, may be submitted no later than five days after the deadline date for case briefs.¹³ Pursuant to 19 CFR 351.309(c)(2) and (d)(2), parties who submit case briefs or rebuttal briefs in this investigation are encouraged to submit with each argument: (1) A statement of the issue; (2) a brief summary of the argument; and (3) a table of authorities.¹⁴

¹³ See 19 CFR 351.309; see also 19 CFR 351.303 (for general filing requirements).

¹⁴ See 19 CFR 351.309(c)(2) and (d)(2).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at the U.S. Department of Commerce, 1401 Constitution Avenue NW, Washington, DC 20230, at a time and date to be determined. Parties should confirm by telephone the date, time, and location of the hearing two days before the scheduled date. Issues addressed at the hearing will be limited to those raised in the briefs.¹⁵ All case and rebuttal briefs and hearing requests must be filed electronically and received successfully in their entirety through ACCESS by 5:00 p.m. Eastern Time on the due date.

¹⁵ See 19 CFR 351.310(c).

Unless the deadline is extended pursuant to section 751(a)(3)(A) of the Act, we intend to issue the final results of this administrative review, including the results of our analysis of the issues raised by the parties in their comments, within 120 days after issuance of these preliminary results.

Notification to Interested Parties

These preliminary results are issued and published pursuant to sections 751(a)(1) and 777(i)(1) of the Act and 19 CFR 351.221(b)(4).

Dated: March 8, 2018.
Gary Taverman,
Deputy Assistant Secretary for Antidumping and Countervailing Duty Operations, performing the non-exclusive functions and duties of the Assistant Secretary for Enforcement and Compliance.

Appendix I

List of Topics Discussed in the Preliminary Decision Memorandum

I. Summary

II. Background

III. Rescission of Review, in Part

IV. Intent To Rescind Administrative Review, in Part

V. Scope of the Order

VI. Use of Adverse Facts Available

VII. Ad Valorem Rate for Non-Cooperative Companies Under Review

VIII. Conclusion

Appendix II

List of Companies for Which We Are Rescinding This Administrative Review

1. Acro Import and Export Co.

2. Activa International Inc.

3. Activa Leisure Inc.

4. Allied Maker Limited

5. Alnan Aluminium Ltd.

6. Alnan Aluminum Co., Ltd.

7. Aluminicaste Fundicion de Mexico

8. AMC Limited

9. AMC Ltd.

10. Anji Chang Hong Chain Manufacturing

11. Aoda Aluminium (Hong Kong) Co., Limited

12. Atlas Integrated Manufacturing Ltd.

13. Belton (Asia) Development Limited

14. Belton (Asia) Development Ltd.

15. Birchwoods (Lin'an) Leisure Products Co., Ltd.

16. Bolnar Hong Kong Ltd.

17. Bracalente Metal Products (Suzhou) Co., Ltd.

18. Changshu Changshen Aluminum Products Co., Ltd.

19. Changshu Changsheng Aluminum Products Co., Ltd.

20. Changzhou Changzhen Evaporator Co., Ltd.

21. Changzhou Changzheng Evaporator Co., Ltd.

22. Changzhou Tenglong Auto Accessories Manufacturing Co. Ltd.

23. Changzhou Tenglong Auto Parts Co., Ltd.

24. China Square

25. China Square Industrial Co.

26. China Square Industrial Ltd.

27. China Zhongwang Holdings, Ltd.

28. Chiping One Stop Industrial & Trade Co., Ltd.

29. Classic & Contemporary Inc.

30. Clear Sky Inc.

31. Cosco (J.M.) Aluminum Co., Ltd.

32. Dalian Huacheng Aquatic Products

33. Dalian Liwang Trade Co., Ltd.

34. Danfoss Micro Channel Heat Exchanger (Jia Xing) Co., Ltd.

35. Daya Hardware Co Ltd.

36. Dongguan Dazhan Metal Co., Ltd.

37. Dongguan Golden Tiger Hardware Industrial Co., Ltd.

38. Dongguang Aoda Aluminum Co., Ltd.

39. Dragonluxe Limited

40. Dynabright International Group (HK) Ltd.

41. Dynamic Technologies China

42. ETLA Technology (Wuxi) Co. Ltd.

43. Ever Extend Ent. Ltd.

44. Fenghua Metal Product Factory

45. First Union Property Limited

46. FookShing Metal & Plastic Co. Ltd.

47. Foreign Trade Co. of Suzhou New & High-Tech Industrial Development Zone.

48. Foshan City Nanhai Hongjia Aluminum Alloy Co., Ltd.

49. Foshan Golden Source Aluminum Products Co., Ltd.

50. Foshan Guangcheng Aluminium Co., Ltd.

51. Foshan Jinlan Aluminum Co. Ltd.

52. Foshan JinLan Aluminum Co., Ltd.

53. Foshan JMA Aluminum Company Limited

54. Foshan Shanshui Fenglu Aluminum Co., Ltd.

55. Foshan Shunde Aoneng Electrical Appliances Co., Ltd.

56. Foshan Yong Li Jian Aluminum Co., Ltd.

57. Fujian Sanchuan Aluminum Co., Ltd.

58. Fuzhou Sunmodo New Energy Equipment

59. Genimex Shanghai, Ltd.

60. Global Hi-Tek Precision Co. Ltd

61. Global PMX Dongguan Co., Ltd.

62. Global Point Technology (Far East) Limited

63. Gold Mountain International Development, Ltd.

64. Golden Dragon Precise Copper Tube Group, Inc.

65. Gran Cabrio Capital Pte. Ltd.

66. Gree Electric Appliances

67. GT88 Capital Pte. Ltd.

68. Guang Ya Aluminium Industries Co. Ltd.

69. Guang Ya Aluminium Industries (HK) Ltd.

70. Guang Ya Aluminum Industries Company Ltd.

71. Guangcheng Aluminum Co., Ltd.

72. Guangdong Hao Mei Aluminum Co., Ltd.

73. Guangdong Jianmei Aluminum Profile Company Limited

74. Guangdong JMA Aluminum Profile Factory (Group) Co., Ltd.

75. Guangdong Midea

76. Guangdong Nanhai Foodstuffs Imp. & Exp. Co., Ltd.

77. Guangdong Weiye Aluminum Factory Co., Ltd.

78. Guangdong Whirlpool Electrical Appliances Co., Ltd.

79. Guangdong Xin Wei Aluminum Products Co., Ltd.

80. Guangdong Yonglijian Aluminum Co., Ltd.

81. Guangdong Zhongya Aluminum Company Ltd.

82. Guangzhou Jangho Curtain Wall System Engineering Co., Ltd.

83. Guangzhou Mingcan Die-Casting Hardware Products Co., Ltd.

84. Hangzhou Xingyi Metal Products Co., Ltd.

85. Hanwood Enterprises Limited

86. Hanyung Alcoba Co., Ltd.

87. Hanyung Alcobis Co., Ltd.

88. Hanyung Metal (Suzhou) Co., Ltd.

89. Hao Mei Aluminum Co., Ltd.

90. Hao Mei Aluminum International Co., Ltd.

91. Hebei Xusen Wire Mesh Products Co., Ltd.

92. Henan New Kelong Electrical Appliances Co., Ltd.

93. Hong Kong Gree Electric Appliances Sales Limited

94. Hong Kong Modern Non-Ferrous Metal

95. Honsense Development Company

96. Hui Mei Gao Aluminum Foshan Co., Ltd.

97. Huixin Aluminum

98. IDEX Dinglee Technology (Tianjin) Co., Ltd.

99. IDEX Health

100. IDEX Technology Suzhou Co., Ltd.

101. Innovative Aluminum (Hong Kong) Limited

102. iSource Asia

103. Jackson Travel Products Co., Ltd.

104. Jangho Curtain Wall Hong Kong Ltd.

105. Jiangmen Jianghai District Foreign Economic Enterprise Corp. Ltd.

106. Jiangmen Jianghai Foreign Ent. Gen.

107. Jiangmen Qunxing Hardware Diecasting Co., Ltd.

108. Jiangsu Changfa Refrigeration Co.

109. Jiangyin Suncitygaylin

110. Jiangyin Trust International Inc.

111. Jiangyin Xinhong Doors and Windows Co., Ltd.

112. Jiaxing Jackson Travel Products Co., Ltd.

113. Jiaxing Taixin Metal Products Co., Ltd.

114. Jiuyan Co., Ltd.

115. JMA (HK) Company Limited

116. Johnson Precision Engineering (Suzhou) Co., Ltd.

117. Justhere Co., Ltd.

118. Kam Kiu Aluminum Products Sdn Bhd

119. Kanal Precision Aluminum Product Co., Ltd.

120. Karlton Aluminum Company Ltd.

121. Kong Ah International Company Limited

122. Kromet International

123. Kromet International Inc.

124. Kromet Intl Inc.

125. Kunshan Giant Light Metal Technology Co., Ltd.

126. Longkou Donghai Trade Co., Ltd.

127. Metaltek Group Co., Ltd.

128. Metaltek Metal Industry Co., Ltd.

129. Midea Air Conditioning Equipment Co., Ltd.

130. Midea International Trading Co., Ltd.

131. Midea International Training Co., Ltd.

132. Miland Luck Limited

133. Nanhai Textiles Import & Export Co., Ltd.

134. New Asia Aluminum & Stainless Steel Product Co., Ltd.

135. New Zhongya Aluminum Factory

136. Nidec Sankyo (Zhejang) Corporation

137. Nidec Sankyo Zhejiang Corporation

138. Nidec Sankyo Singapore Pte. Ltd.

139. Ningbo Coaster International Co., Ltd.

140. Ningbo Hi Tech Reliable Manufacturing Company

141. Ningbo Innopower Tengda Machinery

142. Ningbo Ivy Daily Commodity Co., Ltd.

143. Ningbo Yili Import and Export Co., Ltd.

144. North China Aluminum Co., Ltd.

145. North Fenghua Aluminum Ltd.

146. Northern States Metals

147. PanAsia Aluminum (China) Limited

148. Pengcheng Aluminum Enterprise Inc.

149. Permasteelisa Hong Kong Ltd.

150. Permasteelisa South China Factory

151. Pingguo Aluminum Company Limited

152. Pingguo Asia Aluminum Co., Ltd.

153. Popular Plastics Company Limited

154. Precision Metal Works Limited

155. Press Metal International Ltd.

156. Samuel, Son & Co., Ltd.

157. Sanchuan Aluminum Co., Ltd.

158. Sanhua (Hangzhou) Micro Channel Heat Exchanger Co., Ltd.

159. Shangdong Huasheng Pesticide Machinery Co.

160. Shangdong Nanshan Aluminum Co., Ltd.

161. Shanghai Automobile Air-Conditioner Accessories Co Ltd.

162. Shanghai Automobile Air Conditioner Accessories Ltd.

163. Shanghai Canghai Aluminum Tube Packaging Co., Ltd.

164. Shanghai Dongsheng Metal

165. Shanghai Shen Hang Imp & Exp Co., Ltd.

166. Shanghai Tongtai Precise Aluminum Alloy Manufacturing Co. Ltd.

167. Shenyang Yuanda Aluminum Industry Engineering Co. Ltd.

168. Shenzhen Hudson Technology Development Co.

169. Shenzhen Jiuyuan Co., Ltd.

170. Sihui Shi Guo Yao Aluminum Co., Ltd.

171. Sincere Profit Limited

172. Skyline Exhibit Systems (Shanghai) Co. Ltd.

173. Southwest Aluminum (Group) Co., Ltd.

174. Summit Heat Sinks Metal Co, Ltd.

175. Suzhou JRP Import & Export Co., Ltd.

176. Suzhou New Hongji Precision Part Co.

177. Tai-Ao Aluminum (Taishan) Co. Ltd.

178. Taishan City Kam Kiu Aluminium Extrusion Co., Ltd.

179. Taizhou Lifeng Manufacturing Co., Ltd.

180. Taizhou Lifeng Manufacturing Corporation, Ltd.

181. Taizhou United Imp. & Exp. Co., Ltd.

182. tenKsolar (Shanghai) Co., Ltd.

183. Tianjin Ganglv Nonferrous Metal Materials Co., Ltd.

184. Tianjin Jinmao Import & Export Corp., Ltd.

185. Tianjin Ruxin Electric Heat Transmission Technology Co., Ltd.

186. Tianjin Xiandai Plastic & Aluminum Products Co., Ltd.

187. Tiazhou Lifeng Manufacturing Corporation

188. Top-Wok Metal Co., Ltd.

189. Traffic Brick Network, LLC

190. Union Aluminum (SIP) Co.

191. Union Industry (Asia) Co., Ltd.

192. USA Worldwide Door Components (Pinghu) Co., Ltd.

193. Wenzhou Shengbo Decoration & Hardware

194. Whirlpool (Guangdong)

195. Whirlpool Canada L.P.

196. Whirlpool Microwave Products Development Ltd.

197. WTI Building Products, Ltd.

198. Xin Wei Aluminum Co.¹⁶

¹⁶ As explained in the Preliminary Decision Memorandum, we preliminarily intend to rescind the review with respect to Guangdong Xin Wei Aluminum Products Co., Ltd., Xin Wei Aluminum Co. Ltd., and Xin Wei Aluminum Company Limited, which certified that they had no POR shipments. A final decision regarding whether to rescind the review of this company will be issued with the final results of review. However, no outstanding review requests exist for Xin Wei Aluminum Co. Therefore, pursuant to these preliminary results, we are hereby rescinding the review with respect to Xin Wei Aluminum Co.

199. Xinya Aluminum & Stainless Steel Product Co., Ltd.

200. Yuyao Fanshun Import & Export Co., Ltd.

201. Yuyao Haoshen Import & Export

202. Zahoqing China Square Industry Limited

203. Zhaoqing Asia Aluminum Factory Company Ltd.

204. Zhaoqing China Square Industrial Ltd.

205. Zhaoqing China Square Industry Limited

206. Zhaoqing New Zhongya Aluminum Co., Ltd.

207. Zhejiang Anji Xinxiang Aluminum Co., Ltd.

208. Zhejiang Yongkang Listar Aluminum Industry Co., Ltd.

209. Zhejiang Zhengte Group Co., Ltd.

210. Zhenjiang Xinlong Group Co., Ltd.

211. Zhongshan Daya Hardware Co., Ltd.

212. Zhongshan Gold Mountain Aluminum Factory Ltd.

213. Zhongya Shaped Aluminum (HK) Holding Limited

214. Zhuhai Runxingtai Electrical Equipment Co., Ltd.

[FR Doc. 2018-05264 Filed 3-14-18; 8:45 am]

BILLING CODE 3510-DS-P